FEDERAL MARITIME COMMISSION

Sunshine Act Meeting

AGENCY HOLDING THE MEETING: Federal Maritime Commission.

TIME AND DATE: November 8, 2017; 10:00 a.m.

PLACE: 800 N. Capitol Street NW., First Floor Hearing Room, Washington, DC.

STATUS: This meeting will be open to the public.

MATTERS TO BE CONSIDERED:

Open Session

1. Update from Commissioner Dye on Supply Chain Innovation Teams Initiative.

2. Staff Briefing on Economic Analysis and Statutory Issues in Review Process for Carrier and Marine Terminal Operator Agreements.

3. Commission Action on Petition P2-15, Petition of the National Customs Brokers and Forwarders Association of America, Inc. for Initiation of Rulemaking.

CONTACT PERSON FOR MORE INFORMATION: Rachel E. Dickon, Assistant Secretary, (202) 523 5725.

Rachel E. Dickon,
Assistant Secretary.

[FR Doc. 2017-24100 Filed 11-1-17; 4:15 pm]

BILLING CODE 6731-AA-P